NUCLEAR REGULATORY COMMISSION

Notice of Sunshine Act Meetings

Agency Holding the Meetings: Nuclear Regulatory Commission.

Date: Weeks of August 13, 20, 27, September 3, 10, 17, 2007.

Place: Commissioners' Conference Room, 11555 Rockville Pike, Rockville, Maryland.

Status: Public and Closed.

Matters to be Considered:

Week of August 13, 2007

Tuesday, August 14, 2007.

9:30 a.m. Discussion of Intragovernmental Affairs (Closed-Ex. 1 & 9).

Week of August 20, 2007—Tentative

Tuesday, August 21, 2007.

1:25 p.m.

Affirmation Session (Public Meeting) (Tentative).

a. Final E-Filing Rule (Tentative).

This meeting will be webcast live at the Web address— http://www.nrc.gov.

1:30 p.m.

Meeting with OAS and CRCPD (Public Meeting). (Contact: Shawn Smith, 301 415-2620).

This meeting will be webcast live at the Web address— http://www.nrc.gov.

Wednesday, August 22, 2007.

9:30 a.m.

Periodic Briefing on New Reactor Issues (Morning Session)(Public Meeting) (Contact: Donna Williams, 301 415-1322).

This meeting will be webcast live at the Web address— http://www.nrc.gov.

1:30 p.m.

Periodic Briefing on New Reactor Issues (Afternoon Session)(Public Meeting) (Contact: Donna Williams, 301 415-1322).

This meeting will be webcast live at the Web address— http://www.nrc.gov.

Week of August 27, 2007—Tentative

There are no meetings scheduled for the Week of August 27, 2007.

Week of September 3, 2007—Tentative

There are no meetings scheduled for the Week of September 3, 2007.

Week of September 10, 2007—Tentative

There are no meetings scheduled for the Week of September 10, 2007.

Week of September 17, 2007—Tentative

There are no meetings scheduled for the Week of September 17, 2007.

*The schedule for Commission meetings is subject to change on short notice. To verify the status of meetings call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 9, 2007.
R. Michelle Schroll,
Office of the Secretary.

[FR Doc. 07-3987 Filed 8-10-07; 11:37 am]

BILLING CODE 7590-01-P